ENVIRONMENTAL PROTECTION AGENCY

[EPA-HQ-OPPT-2006-0434; FRL-8069-1]

Certain New Chemicals; Receipt and Status Information

AGENCY: Environmental Protection Agency (EPA).

ACTION: Notice.

SUMMARY: Section 5 of the Toxic Substances Control Act (TSCA) requires any person who intends to manufacture (defined by statute to include import) a new chemical (i.e., a chemical not on the TSCA Inventory) to notify EPA and comply with the statutory provisions pertaining to the manufacture of new chemicals. Under sections 5(d)(2) and 5(d)(3) of TSCA, EPA is required to publish a notice of receipt of a premanufacture notice (PMN) or an application for a test marketing exemption (TME), and to publish periodic status reports on the chemicals under review and the receipt of notices of commencement to manufacture those chemicals. This status report, which covers the period from April 10, 2006 to April 28, 2006, consists of the PMNs pending or expired, and the notices of commencement to manufacture a new chemical that the Agency has received under TSCA section 5 during this time period.

DATES: Comments identified by the specific PMN number or TME number, must be received on or before June 12, 2006.

ADDRESSES: Submit your comments, identified by docket identification (ID) no. EPA-HQ-OPPT-2006-0434, by one of the following methods.

• http://www.regulations.gov. Follow the on-line instructions for submitting comments.

• Mail: Document Control Office (7407M), Office of Pollution Prevention and Toxics (OPPT), Environmental Protection Agency, 1200 Pennsylvania Ave., NW., Washington, DC 20460-0001.

• Hand Delivery: OPPT Document Control Office (DCO, EPA East Bldg., Rm. 6428, 1201 Constitution Ave., NW., Washington, DC. Attention: Docket ID number EPA-HQ-OPPT-2006-0434. The DCO is open from 8 a.m. to 4 p.m., Monday through Friday, excluding legal holidays. The telephone number for the DCO is (202) 564-8930. Such deliveries are only accepted during the Docket's normal hours of operation, and special arrangements should be made for deliveries of boxed information.

• Instructions: Direct your comments to docket ID number EPA-HQ-OPPT-2006-0434. EPA's policy is that all comments received will be included in the public docket without change and may be made available online at http://www.regulations.gov, including any personal information provided, unless the comment includes information claimed to be Confidential Business Information (CBI) or other information whose disclosure is restricted by statute. Do not submit information that you consider to be CBI or otherwise protected through regulations.gov or e-mail. The regulations.gov website is an “anonymous access” systems, which means EPA will not know your identity or contact information unless you provide it in the body of your comment. If you send an e-mail comment directly to EPA without going through regulations.gov your e-mail address will be automatically captured and included as part of the comment that is placed in the public docket and made available on the Internet. If you submit an electronic comment, EPA recommends that you include your name and other contact information in the body of your comment and with any disk or CD ROM you submit. If EPA cannot read your comment due to technical difficulties and cannot contact you for clarification, EPA may not be able to consider your comment. Electronic files should avoid the use of special characters, any form of encryption, and be free of any defects or viruses.

Docket: All documents in the docket are listed in the regulations.gov index. Although listed in the index, some information is not publicly available, i.e., CBI or other information whose disclosure is restricted by statute. Certain other material, such as copyrighted material, is not placed on the Internet and will be publicly available only in hard copy form. Publicly available docket materials are available electronically through regulations.gov or in hard copy at the OPPT Docket, EPA Docket Center (EPA/DC), EPA West, Room B102, 1301 Constitution Ave., NW., Washington, DC. The EPA Docket Center Public Reading Room is open from 8:30 a.m. to 4:30 p.m., Monday through Friday, excluding legal holidays. The telephone number for the Public Reading Room is (202) 566-1744, and the telephone number for the OPPT Docket is (202) 566-0280.

FOR FURTHER INFORMATION CONTACT: Colby Lintner, Regulatory Coordinator, Environmental Assistance Division, Office of Pollution Prevention and Toxics (7408M), Environmental Protection Agency, 1200 Pennsylvania Ave., NW., Washington, DC 20460-0001; telephone number: (202) 554-1404; e-mail address: TSCA-Hotline@epa.gov.

SUPPLEMENTARY INFORMATION:

I. General Information

A. Does this Action Apply to Me?

This action is directed to the public in general. As such, the Agency has not attempted to describe the specific entities that this action may apply to. Although others may be affected, this action applies directly to the submitter of the premanufacture notices addressed in the action. If you have any questions regarding the applicability of this action to a particular entity, consult the person listed under FOR FURTHER INFORMATION CONTACT.

B. What Should I Consider as I Prepare My Comments for EPA?

1. Submitting CBI. Do not submit this information to EPA through regulations.gov or e-mail. Clearly mark the part or all of the information that you claim to be CBI. For CBI information in a disk or CD ROM that you mail to EPA, mark the outside of the disk or CD ROM as CBI and then identify electronically within the disk or CD ROM the specific information that is claimed CBI). In addition to one complete version of the comment that includes information claimed as CBI, a copy of the comment that does not contain the information claimed as CBI must be submitted for inclusion in the public docket. Information so marked will not be disclosed except in accordance with procedures set forth in 40 CFR part 2.

2. Tips for preparing your comments. When submitting comments, remember to:

i. Identify the document by docket number and other identifying information (subject heading, Federal Register date and page number).

ii. Follow directions - The agency may ask you to respond to specific questions or organize comments by referencing a Code of Federal Regulations (CFR) part or section number.

iii. Explain why you agree or disagree; suggest alternatives and substitute language for your requested changes.

iv. Describe any assumptions and provide any technical information and/or data that you used.

v. If you estimate potential costs or burdens, explain how you arrived at the estimate.

vi. Provide specific examples to illustrate your concerns, and suggested alternatives.

vii. Explain your views as clearly as possible, avoiding the use of profanity or personal threats.

viii. Make sure to submit your comments by the comment period deadline identified.

II. Why is EPA Taking this Action?

Section 5 of TSCA requires any person who intends to manufacture (defined by statute to include import) a new chemical (i.e., a chemical not on the TSCA Inventory to notify EPA and comply with the statutory provisions pertaining to the manufacture of new chemicals. Under sections 5(d)(2) and 5(d)(3) of TSCA, EPA is required to publish a notice of receipt of a PMN or an application for a TME and to publish periodic status reports on the chemicals under review and the receipt of notices of commencement to manufacture those chemicals. This status report, which covers the period from April 10, 2006 to April 28, 2006, consists of the PMNs pending or expired, and the notices of commencement to manufacture a new chemical that the Agency has received under TSCA section 5 during this time period.

III. Receipt and Status Report for PMNs

This status report identifies the PMNs pending or expired, and the notices of commencement to manufacture a new chemical that the Agency has received under TSCA section 5 during this time period. If you are interested in information that is not included in the following tables, you may contact EPA as described in Unit II. to access additional non-CBI information that may be available.

In Table I of this unit, EPA provides the following information (to the extent that such information is not claimed as CBI) on the PMNs received by EPA during this period: the EPA case number assigned to the PMN; the date the PMN was received by EPA; the projected end date for EPA's review of the PMN; the submitting manufacturer; the potential uses identified by the manufacturer in the PMN; and the chemical identity.

I. 54 Premanufacture Notices Received From: 04/10/06 to 04/28/06
Case No. | Received Date | Projected Notice End Date | Manufacturer/Importer | Use | Chemical
P-06-0411 | 04/11/06 | 07/09/06 | Dexter Chemical LLC | (G) Dispersing and freeze thaw stability for waterborne coatings. | (G) Potassium salt of phosphoric acid of glycerol ethoxylate
P-06-0412 | 04/11/06 | 07/09/06 | Colonial Chemical, Inc. | (S) Hard surface cleaner in high caustic solutions | (S) D-glucopyranose, oligomeric, bu glycosides, phosphinicobis[oxy(2-hydroxy-3,1-propanediyl)] ethers, sodium salts
P-06-0413 | 04/11/06 | 07/09/06 | Colonial Chemical, Inc. | (S) Hard surface cleaner in high caustic solutions | (S) D-glucopyranose, oligomeric, 2-ethylhexyl glycosides, phosphinicobis[oxy(2-hydroxy-3,1-propanediyl)] ethers, sodium salts
P-06-0414 | 04/11/06 | 07/09/06 | Colonial Chemical, Inc. | (S) Hard surface cleaner in high caustic solutions | (S) D-glucopyranose, oligomeric, decyl octyl glycosides, phosphinicobis[oxy(2-hydroxy-3,1-propanediyl)] ethers, sodium salts
P-06-0415 | 04/11/06 | 07/09/06 | Colonial Chemical, Inc. | (S) Hard surface cleaner in high caustic solutions | (S) D-glucopyranose, oligomeric, C¹⁰⁻¹⁶-alkyl glycosides, phosphinicobis[oxy(2-hydroxy-3,1-propanediyl)] ethers, sodium salts
P-06-0416 | 04/11/06 | 07/09/06 | Colonial Chemical, Inc. | (S) Hard surface cleaner in high caustic solutions | (S) D-glucopyranose, oligomeric, C¹⁰⁻¹⁶-alkyl glycosides, phosphinicobis[oxy(2-hydroxy-3,1-propanediyl)] ethers, sodium salts
P-06-0417 | 04/11/06 | 07/09/06 | CBI | (G) Antiwear additive (contained use) | (G) Amine neutralized phosphoric acid ester
P-06-0418 | 04/11/06 | 07/09/06 | MEP America | (S) Additive of polyacetals | (S) Dodecanedioic acid, dihydrazine
P-06-0419 | 04/11/06 | 07/09/06 | Photoluminous Imports USA, LLC | (G) Additive for glow-in-the-dark effect | (G) Alkanline earth aluminate-phosphate-silicate polycrystalline material:rare earth doped
P-06-0420 | 04/12/06 | 07/10/06 | Specialty Fertilizer LLC | (G) nitrogen voltilization inhibitor | (S) Butanedioic acic, methylene-, polymer with 2,5-furandione, calcium salt, hydrogen peroxide-initiated
P-06-0421 | 04/12/06 | 07/10/06 | CBI | (G) Epoxy mold compound | (G) Dimethyl, methylgycidoxypropyl, methylglycol siloxanes
P-06-0422 | 04/12/06 | 07/10/06 | CBI | (G) Intermediate used to make chain transfer agents for polymerizations | (G) Alkanoic acid, 2-[[(alkylthio)thioxomethyl]thio]-2-akyl-
P-06-0423 | 04/12/06 | 07/10/06 | CBI | (G) Lubricant additive | (G) 2-propenoic acid, 2-methyl-, 1,2-ethanediyl ester, telomer with alkyl 2-[[(alkylthio)thioxomethyl]thio]-2-methylalkanoate, alkyl methacrylate and me methacrylate, tert-bu-2-ethylhexaneperoxoate-initiated
P-06-0424 | 04/12/06 | 07/10/06 | CBI | (G) Lubricant additive | (G) 2-propenoic acid, 2-methyl-, 1,2-ethanediyl ester, telomer with alkyl 2-[[(alkylthio)thioxomethyl]thio]-2-methylalkanoate, alkyl methacrylate and me methacrylate, tert-bu-2-ethylhexaneperoxoate-initiated
P-06-0425 | 04/12/06 | 07/10/06 | CBI | (G) Lubricant additive | (G) 2-propenoic acid, 2-methyl-, 1,2-ethanediyl ester, telomer with alkyl 2-[[(alkylthio)thioxomethyl]thio]-2-methylalkanoate, alkyl methacrylate and me methacrylate, n-(dimethylamino)alkyl]-2-methyl-2-propenamide and me methacrylate, tert-bu-2-ethylhexaneperoxoate initiated
P-06-0426 | 04/12/06 | 07/10/06 | CBI | (G) Lubricant additive | (G) 2-propenoic acid, 2-methyl-, 1,2-ethanediyl ester, telomer with alkyl 2-[[(alkylthio)thioxomethyl]thio]-2-(dimethylamino) alkyl methacrylate methylalkanoate, alkyl methacrylate and me methacrylate, tert-bu-2-ethylhexaneperoxoate-initiated
P-06-0427 | 04/12/06 | 07/10/06 | CBI | (G) Lubricant additive | (G) 2-propenoic acid, 2-methyl-, 1,2-ethanediyl ester, telomer with alkyl 2-[[(alkylthio)thioxomethyl]thio]-2-methylalkanoate, alkyl methacrylate N-(dimethylamino)-2 methyl-2 propenamide and me methacrylate, tert-bu-2-ethylhexaneperoxoate-initiated
P-06-0428 | 04/12/06 | 07/10/06 | CBI | (G) Lubricant additive | (G) 2-propenoic acid, 2-methyl-, 1,2-ethanediyl ester, telomer with alkyl 2-[[(alkylthio)thioxomethyl]thio]-2-methylalkanoate, alkyl methacrylate 2-(dimethylamino) alkyl and me methacrylate, tert-bu-2-ethylhexaneperoxoate-initiated
P-06-0429 | 04/12/06 | 07/10/06 | CBI | (S) Dispersing agent for crop protection; dispersing agent for home care cleaners | (G) Polyoxyalkylene siloxane
P-06-0430 | 04/12/06 | 07/10/06 | CBI | (S) Dispersing agent for crop protection; dispersing agent for home care cleaners | (G) Polyoxyalkylene siloxane
P-06-0431 | 04/13/06 | 07/11/06 | CBI | (S) Tackifiers in hot melt and pressure sensitive adhesives. | (G) Styrenated terpene resin.
P-06-0432 | 04/12/06 | 07/10/06 | CBI | (G) Chain transfer agents for polymerizations. | (G) Alkanoic acid, 2-[[(alkylthio)thioxomethyl[thio]-2-methyl-, alkyl ester
P-06-0433 | 04/12/06 | 07/10/06 | CBI | (G) Chain transfer agents for polymerizations. | (G) Alkanoic acid, 2-[[(alkylthio)thioxomethyl[thio]-2-methyl-, alkyl ester
P-06-0434 | 04/13/06 | 07/11/06 | CBI | (G) Additive | (G) Treated silica
P-06-0435 | 04/13/06 | 07/11/06 | CBI | (S) Intermediate | (G) Hydridosiloxane
P-06-0436 | 04/13/06 | 07/11/06 | CBI | (S) Curing agent in solid gel air fresheners | (G) Fatty acids, C¹⁸-unsaturated, dimers, hydrogenated, polymers with polypropylene glycol diamine and polyoxyalkylenepolyamine.
P-06-0437 | 04/13/06 | 07/11/06 | CBI | (S) Curing agent in solid gel air fresheners | (G) Fatty acids, C¹⁸-unsaturated, dimers, polymers with polypropylene glycol diamine and polyoxyalkylenepolyamine.
P-06-0438 | 04/13/06 | 07/11/06 | CBI | (S) Curing agent in solid gel air fresheners | (G) Fatty acids, C¹⁸-unsaturated, dimers, hydrogenated, polymers with polypropylene glycol diamine, amino acid and polyoxyalkylenepolyamine.
P-06-0439 | 04/13/06 | 07/11/06 | CBI | (S) Curing agent in solid gel air fresheners | (G) Fatty acids, C¹⁸-unsaturated, dimers, polymers with polypropylene glycol diamine, amino acid and polyoxyalkylenepolyamine.
P-06-0440 | 04/14/06 | 07/12/06 | Cytec Surface Specialties Inc. | (G) Coatings and inks | (G) Alkylamine, reaction products with alkoxylated polyalcohol and substituted alkane
P-06-0441 | 04/14/06 | 07/12/06 | CBI | (G) Electronics adhesives, encapsulants and conformational coatings | (G) Maleimide alkyl carboxylic acid
P-06-0442 | 04/17/06 | 07/15/06 | Cytec Surface Specialties Inc. | (S) Resin for paints and coatings | (G) Substituted carbo-monocycle, polymer with substituted glycols
P-06-0443 | 04/14/06 | 07/12/06 | Photoluminous Imports USA, LLC | (G) Additive for glow-in-the-dark effect | (G) Alkaline earth fluoaluminate or fluoaluminate, rare earth doped
P-06-0444 | 04/19/06 | 07/17/06 | CBI | (G) Chemical intermediate | (G) 2-butanone, 3,3-dimethyl-1-[3-(4-nitrophenyl)-heteromonocycle
P-06-0445 | 04/20/06 | 07/18/06 | CBI | (G) Coating component | (G) Acrylic acid, polymer with substituted acrylates
P-06-0446 | 04/20/06 | 07/18/06 | CBI | (G) Open, non-dispersive use. | (G) Amine functional acrylic-styrene polymer
P-06-0447 | 04/20/06 | 07/18/06 | CBI | (G) Polymer film | (G) Dimethyl terephthalate sulfonate alkanediol copolymer
P-06-0448 | 04/21/06 | 07/19/06 | Surface Chemists of Florida, Inc. | (G) Asphalt additive | (G) Fatty acid salt of alkyldiamine
P-06-0449 | 04/24/06 | 07/22/06 | Werner G. Smith, Inc. | (G) metal working fluid | (S) Hexanedioic acid, mixed esters with 4-methyl-2-propyl-1-hexanol, pentaerythritol and 2-propyl-1-heptanol
P-06-0450 | 04/24/06 | 07/22/06 | Colonial Chemical, Inc. | (S) Wetting agent for low foam spray metal cleaning | (S) Poly(oxy-1,2-ethanediyl), .alpha.-(2-methyl-2-propenyl)-.omega.-hydroxy-, c12-15-alkyl ethers
P-06-0451 | 04/24/06 | 07/22/06 | Colonial Chemical, Inc. | (S) Wetting agent for low foam spray metal cleaning | (S) Poly(oxy-1,2-ethanediyl), .alpha.-(2-methyl-2-propenyl)-.omega.-hydroxy-, C¹⁰⁻¹⁶-alkyl ethers
P-06-0452 | 04/24/06 | 07/22/06 | Colonial Chemical, Inc. | (S) Wetting agent for low foam spray metal cleaning | (S) Poly(oxy-1,2-ethanediyl), .alpha.-(2-methyl-2-propenyl)-.omega.-hydroxy-, C¹²⁻¹⁶-alkyl ethers
P-06-0453 | 04/25/06 | 07/23/06 | Eastman Chemical Company | (S) Adhesion promoter for paints | (G) Modified polylolefin
P-06-0454 | 04/25/06 | 07/23/06 | CBI | (G) Polymer dispersant admixture | (G) Modified phenol resin
P-06-0455 | 04/25/06 | 07/19/06 | CBI | (G) Polymer dispersant admixture | (G) Modified phenol resin
P-06-0456 | 04/26/06 | 07/24/06 | CBI | (G) Polyester | (G) Polyester, polymer with trimethylol propane and tetrahydrophthalic anhydride
P-06-0457 | 04/27/06 | 07/25/06 | The Sherwin-Williams Co. | (G) Floor coating | (G) Silico titanate ester
P-06-0458 | 04/27/06 | 07/25/06 | E.I. Du Pont De Nemours and Company Inc. | (G) Polymer modifier | (G) Magnesium salt of fatty acid
P-06-0459 | 04/27/06 | 07/25/06 | E.I. Du Pont De Nemours and Company Inc. | (G) Polymer modifier | (G) Calcium salt of fatty acid
P-06-0460 | 04/27/06 | 07/25/06 | E.I. Du Pont De Nemours and Company Inc. | (G) Polymer modifier | (G) Zinc sakt of fatty acid
P-06-0461 | 04/27/06 | 07/25/06 | E.I.Du Pont De Nemours and Company Inc. | (G) Polymer modifier | (G) Lithium salt of fatty acid
P-06-0462 | 04/28/06 | 07/26/06 | CIBA Specialty Chemicals Corporation | (S) Clarifer for polymers, primarily polypropylene | (G) 2,2-alkyl-N,N′,N′′-aryltriyltris propanamide
P-06-0463 | 04/28/06 | 07/26/06 | Chemitall Foote Corporation | (G) Electrolyte | (S) Borate(1-), bis [ethanedioato (2-)- .kappa. 01, .kappa. 02] -lithium, (t-4)-
P-06-0464 | 04/28/06 | 07/26/06 | Bedoukian Research, Inc. | (S) Chemical intermediate | (S) 3-decanol

In Table II of this unit, EPA provides the following information (to the extent that such information is not claimed as CBI) on the Notices of Commencement to manufacture received:

II. 25 Notices of Commencement From: 04/10/06 to 04/28/06
Case No. | Received Date | Commencement Notice End Date | Chemical
P-00-0887 | 04/10/06 | 04/04/05 | (G) Polyester polyether isocyanate polymer
P-05-0290 | 04/12/06 | 03/28/06 | (G) Alkanediocic acid, polymer with 1,3,5-tris(substituted alkyl)-1,3,5-triazine-2,4,6(1h,3h,5h)-trione, alkanoate (ester) 3-substituted-2-(substituted alkyl)-2-alkanoate (ester)
P-05-0704 | 04/10/06 | 03/15/06 | (G) Silylated urethane resin
P-05-0705 | 04/10/06 | 03/15/06 | (G) Silylated urethane resin
P-06-0011 | 04/10/06 | 03/30/06 | (G) Isocyanate functional polyester polyether urethane polymer
P-06-0027 | 04/11/06 | 03/01/06 | (G) Polyester acrylate oligomer
P-06-0028 | 04/11/06 | 01/19/06 | (G) Polyester acrylate oligomer
P-03-0751 | 04/17/06 | 03/30/06 | (G) Polyacrylic resin
P-05-0402 | 04/18/06 | 04/11/06 | (G) Arene,alkenyl-, homopolymer, hydroxyaromatic carboxylic acid-terminated, metal complexes
P-05-0403 | 04/18/06 | 04/11/06 | (G) Alkylaldehyde, polymer with alkylarenol, hydroxyaromatic carboxylic acid-terminated, metal complexes
P-05-0446 | 04/25/06 | 03/29/06 | (G) 1-propanaminium, 2,3-dihydroxy-N,N-dimethyl-n-[3-[(fatty acid)amino]propyl-,chloride
P-05-0733 | 04/27/06 | 04/24/06 | (G) Urethane modified epoxy resin
P-05-0766 | 04/26/06 | 03/30/06 | (S) Poly[oxy(methyl-1,2-ethanediyl)], .alpha.-methyl-.omega.-(4-nonylphenoxy)-,branched
P-05-0819 | 04/14/06 | 03/29/06 | (G) Oxazolidine functional acrylic polyol
P-05-0829 | 04/17/06 | 03/12/06 | (S) 1-naphthalenesulfonic acid, 2-[[2-hydroxy-3-[(phenylamino)carbonyl]-1-naphthalenyl]azo]-, calcium salt (2:1)
P-05-0831 | 04/17/06 | 03/12/06 | (S) Benzenesulfonic acid, 2-chloro-5-[[2-hydroxy-3-[(phenylamino)carbonyl]-1-naphthalenyl]azo]-, calcium salt (2:1)
P-06-0006 | 04/26/06 | 04/13/06 | (S) Oils, apple
P-06-0014 | 04/27/06 | 04/25/06 | (G) Aminocarboxylic acid chelating agent
P-06-0095 | 04/20/06 | 03/24/06 | (G) Organo barium salt
P-06-0107 | 04/25/06 | 03/25/06 | (G) Aminophenyl substituted pyrazolone
P-06-0156 | 04/28/06 | 04/14/06 | (S) Silane, ethenyltrimethoxy-, reaction products with 1-butene-ethylene-propene polymer
P-94-0651 | 04/17/06 | 04/07/06 | (G) Polyester isocyanate prepolymer
P-95-1489 | 04/21/06 | 03/29/06 | (G) Polyester polyether isocyanate prepolymer
P-98-0066 | 04/19/06 | 03/27/06 | (S) 1-dodecanol, manufurer. of, distn. lights
P-98-0067 | 04/19/06 | 04/02/06 | (S) 1-tetradecanol, manufurer. of distn. lights

List of Subjects

Environmental protection, Chemicals, Premanufacturer notices.

Dated: May 5, 2006.
LaRona M. Washington,
Acting Director, Information Management Division, Office of Pollution Prevention and Toxics.

[FR Doc. E6-7217 Filed 5-11-06; 8:45 am]

BILLING CODE 6560-50-S